NATIONAL AERONAUTICS AND SPACE ADMINISTRATION

2 CFR Part 1800

[Document Number NASA-19-028: Docket Number NASA-2019-0003]

RIN 2700-AE49

Uniform Administrative Requirements, Cost Principles, and Audit Requirements for Federal Awards; Correction

AGENCY: National Aeronautics and Space Administration.

ACTION: Direct final rule; correction.

SUMMARY: This document corrects section IV. Regulatory Analysis within the Supplementary Information section of the preamble in the final regulations, which were published in the Federal Register of Thursday, May 9, 2019. The regulations relate to removing Certifications, Assurances, and Representations and Terms and Conditions from NASA's Uniform Administrative Requirements, Cost Principles, and Audit Requirements for Federal Awards regulations and all references to both because this information is already available in NASA's Grant and Cooperative Agreements Manual.

DATES: Effective September 19, 2019.

Correction

In final regulations FR Doc. 2019-09569, on page 20239 in the issue of May 9, 2019, make the following corrections:

1. On page 20239, in the third column, under the heading “Executive Orders 12866 and Executive Order 13563,” remove the sentence “This rule has been designated a “significant regulatory action,” although not economically significant, under section 3(f) of Executive Order 12866” and add in its place the sentence “This rule is not a significant regulatory action under Executive Order 12866 and was not reviewed by the Office of Management and Budget.”

2. On page 20239 in the third column, before the heading “Regulatory Flexibility Act,” add a new heading and paragraph to read as follows:

Executive Order 13771, Reducing Regulation and Controlling Cost

This rule is not an Executive Order 13771 regulatory action because it is not significant under Executive Order 12866.

Nanette Smith,
NASA Federal Register Liaison Officer.

[FR Doc. 2019-19948 Filed 9-18-19; 8:45 am]

BILLING CODE 7510-13-P